DEPARTMENT OF TRANSPORTATION

Federal Aviation Administration

14 CFR Part 71

[Docket No. FAA-2001-9559; Airspace Docket No. 01-AWP-02]

Revision of VOR Federal Airway 105 and Jet Route 86, AZ; and the Establishment of Jet Routes 614 and 616

AGENCY: Federal Aviation Administration (FAA), DOT.

ACTION: Final rule.

SUMMARY: This action revises Federal Airway 105 (V-105) and Jet Route 86 (J-86) in the vicinity of Phoenix, AZ. The FAA is revising V-105 between the Drake and Phoenix, AZ, Very High Frequency Omnidirectional Radio Range and Tactical Air Navigation Aids (VORTAC) in order to enhance the management of aircraft operations in the Phoenix, AZ, terminal area. Additionally, the FAA is revising J-86 between Winslow, AZ, as part of the National Airspace Redesign effort and to improve system efficiency in the Pheonix, AZ, area. The FAA is also modifying the descriptions for J-58 and J-86, and renaming portions of J-58 and J-86 in the state of Florida. These modifications are also part of the National Airspace Redesign effort to improve system efficiency.

EFFECTIVE DATE: 0901 UTC, August 8, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

V-105

On June 20, 2001, FAA-2001-9559, Airspace Docket No. 01-AWP-02, (66 FR 30654), was published in the Federal Register. In that airspace docket the FAA proposed to realign V-105 and J-86 in the Phoenix, AZ, area. The June 20, 2001, Notice of Proposed Rulemaking (NPRM) contained an inadvertent error in the proposed description of V-105. Specifically, the description transposed the magnetic and true radials of V-105. A supplemental NPRM (SNPRM) corrected that error. Interested parties were invited to participate in this rulemaking proceeding by submitting written comments on the proposal to the FAA. No comments were received. With the exception of editorial changes, this amendment is the same as that proposed in the notice.

Currently the navigational signal in the vicinity of the Gulf of Mexico is not sufficient to support the segment of J-58 between the Harvey, LA, VORTAC, and the Sarasota VORTAC. The same problem affects that segment of J-86 between the Leeville VORTAC and the Sarasota, FL, VORTAC. Due to the weak navigational signal coverage on these routes, they no longer pass flight inspection. In this action, the FAA revokes the route over the Gulf, and terminates the routes at the Harvey VORTAC (for J-58) and the Leeville VORTAC (for J-86) respectively.

To replace the revoked segments, over-water advanced navigation routes were established under a separate action. These over-water navigation routes do not rely on ground based navigation facilities and are not subject to navigation signal coverage limitations. Additionally, in this action, the FAA will rename the route segments of J-58 and J-86 in Florida to J-614 and J-616, to avoid any confusion.

Final Rule

This action amends Title 14 Code of Federal Regulations (14 CFR) part 71 by revising V-105 and J-86 in the vicinity of Phoenix, AZ. The FAA is also revising J-58 by terminating the route at the Harvey, LA, VORTAC; revoking the segment of J-58 between the Harvey VORTAC and the Sarasota, FL, VORTAC; and renaming the route from the Sarasota VORTAC to the Dolphin, FL, VORTAC, J-614. Additionally, the FAA is revising J-86 between Winslow, AZ, and the Leeville, LA, VORTAC; revoking the segment of J-86 between the Leeville VORTAC and the Sarasota, FL, VORTAC; and renaming the J-86 route segment from the Sarasota VORTAC to the Dolphin, FL, VORTAC, J-616. These actions are necessary because J-58 and J-86 failed to pass flight inspection due to gaps in navigation signal coverage over the Gulf of Mexico. These changes are also part of the National Airspace Redesign effort to improve system efficiency and safety.

Jet routes and domestic VOR Federal Airways are published in paragraphs 2004 and 6010(a), respectively, of FAA Order 7400.9J, dated August 31, 2001, and effective September 16, 2001, which is incorporated by reference in 14 CFR 71.1. The jet routes and VOR Federal Airways listed in this document will be published subsequently in the Order.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p.389.

§ 71.1 [Amended]

2. The incorporation by reference in 14 CFR 71.1 of Federal Aviation Administration Order 7400.9J, Airspace Designations and Reporting Points, dated August 31, 2001, and effective September 16, 2001, is amended as follows:

Paragraph 2004—Jet Routes

* * * * *

J-58 [REVISED]

From Oakland, CA, via Manteca, CA; Coaldale, NV; Wilson Creek, NV; Milford, UT; Farmington, NM; Las Vegas, NM; Panhandle, TX; Wichita Falls, TX; Ranger, TX; Alexandria, LA; Harvey, LA.

J-86 [REVISED]

From Beatty, NV; INT Beatty 131° and Boulder City, NV, 284° radials; Boulder City; Peach Springs, AZ; INT of Peach Springs 091° and Winslow, AZ, 301° radials, Winslow, AZ; El Paso, TX; Fort Stockton, TX; Junction, TX; Humble, TX; Leeville, LA.

J-614 [NEW]

Sarasota; Lee County, FL; to the INT Lee County 120° and Dolphin, FL, 293° radials; Dolphin.

J-616 [NEW]

Sarasota; INT Sarasota 103° and La Belle, FL, 313° radials; La Belle; to Dolphin, FL.

* * * * *

Paragraph 6010(a)—Domestic VOR Federal Airways

* * * * *

V-105 [REVISED]

From Tucson, AZ; INT Tucson 300° and Stanfield, AZ 145° radials; Stanfield; Phoenix, AZ; INT Phoenix 333° and Drake, AZ, 182° radials; Drake; 25 miles, 22 miles 85 MSL; Boulder City, NV; Las Vegas, NV; INT Las Vegas 266° and Beatty, NV, 142° radials; 17 miles, 105 MSL; Beatty; 105 MSL, Coaldale, NV; 82 miles, 110 MSL; to Mustang, NV.

* * * * *

Issued in Washington, DC, on April 5, 2002.
Reginald C. Matthews,
Manager, Airspace and Rules Division.

[FR Doc. 02-9122 Filed 4-16-02; 8:45 am]

BILLING CODE 4910-13-P